DEPARTMENT OF AGRICULTURE

Forest Service

Black Hills National Forest, Mystic Ranger District, South Dakota, Deerfield Project Area Proposal and Analysis

AGENCY: Forest Service, USDA.

ACTION: Notice of intent to prepare an environmental impact statement.

SUMMARY: The Forest Service will prepare an environmental impact statement on a proposal for multiple resource management actions within the Deerfield Project Area to implement the Black Hills National Forest Land and Resource Management Plan. The Deerfield Project Area covers about 41,000 acres of National Forest System land and about 5,200 acres of interspersed private land approximately 11 miles northwest of Hill City, South Dakota. The proposed action is to conduct vegetation management within the project area consisting of both commercial and non-commercial removal of trees, reduction of existing fuels and created activity fuels, and prescribed burning. Specific actions proposed for the Deerfield Project Area include the following: Commercial timber harvest of trees 7 inches or greater in diameter to thin stand densities, lower the potential for large scale mountain pine beetle infestations and crown fires, to create a mosiac of tree sizes and age classes, and to remove pine encroachment from meadows and hardwoods. These treatments would occur on approximately 14,000 acres. Non-commercial removal of trees smaller than 7 inches in diameter to reduce stand densities, eliminate ladder fuels, and improve the health and vigor of remaining trees would occur on approximately 4,200 areas, most of which overlap with commercial timber harvest acres. Forest fuels that currently exist and those created by harvest and thinning activities would be reduced by actions such as lopping, chipping, crushing, or piling and burning. Fuel breaks approximately 200 to 300 feet wide would be constructed adjacent to private land to provide some measure of protection to private land or structures in the event of a wildfire. These fuel breaks would consist of thinning existing trees of all sizes on approximately 1,400 acres. Some of these acres may overlap with other commercial and non-commercial treatments described above. Prescribed burning would be conducted on approximately 7,000 to 10,000 acres to reduce the continuity and amount of fuels, reduce the potential for large scale crown fires, and restore fire to its natural ecological role. Many of these acres will overlap with the vegetation treatments already described.

DATES: Comments concerning the scope of the analysis would be most useful if received by 30-days following the date of this notice. Comments submitted by individuals and groups during the initial May 2004 scoping period have been incorporated and there is no need to resubmit comments in response to this NOI. The draft environmental impact statement is expected to be available for public review by November 2004 and the final environmental impact statement is expected to be completed by February 2004.

ADDRESSES: Send written comments to Robert J. Thompson, District Ranger, Black Hills National Forest, Mystic Ranger District, Deerfield Project Area, 800 Soo San Drive, Rapid City, South Dakota 57702. Telephone Number: (605) 343-1567. E-mail: comments-rocky-mountain-black-hills-mystic@fs.fed.us with “Deerfield” as the subject. Electronic comments must be readable in Word, RichText or pdf formats.

FOR FURTHER INFORMATION CONTACT: Katie Van Alstyne, Project Coordinator, Black Hills National Forest, Mystic Ranger District, at above address, phone (605) 343-1567.

SUPPLEMENTARY INFORMATION: The actions proposed are in direct response to management direction provided by the Black Hills National Forest Land and Resource Management Plan (Forest Plan). The site specific actions are designed based on Forest Plan Standards and Guidelines to move existing resource conditions in the Deerfield Project Area toward meeting Forest Plan Goals and Objectives. The project areas includes the Deerfield Recreation Area with Deerfield Lake, Reynolds Prairie, and Hat and Flag Mountains and lies approximately 11 miles northwest of Hill City, South Dakota. Anticipated issues include: an increasing mountain pine beetle (MPB) infestation and pine tree mortality; fire and fuels hazard reduction; support and opposition to vegetation treatment such as timber harvest; impacts of vegetation treatment and multiple forest uses on wildlife habitat.

Purpose and Need for Action

The purpose of and need for the actions proposed in the Deerfield Project is to: Reduce the potential for large scale MPB infestations, to break up the continuity of dense timber stands, reduce the potential for large scale wildfire, and restore hardwoods and meadows. This project will address Goals 2 and 3 of the Forest Plan—to provide for biologically diverse ecosystems and provide for sustained commodity uses, consistent with Forest Plan Standards and Guidelines.

Proposed Action

Proposed actions include the following:

• Commercial timber harvest of trees 7 inches or greater in diameter to thin stand densities, lower the potential for large scale MPB infestations and crown fires, to create a mosiac of tree sizes and age classes, and to remove pine encroaching on meadows and hardwoods. These treatments would occur on approximately 14,000 acres.

• Non-commercial removal of trees smaller than 7 inches in diameter to reduce stand densities, eliminate ladder fuels, and improve the health and vigor of remaining trees. These treatments would occur on approximately 4,200 acres, most of which overlap with commercial timber harvest acres.

• Reduce forest fuels that currently exist and those created by harvest and thinning activities. This might include lopping, chipping, crushing, or piling and burning.

• Construct fuel breaks approximately 200 to 300 feet wide adjacent to private land to provide some measure of protection to private land or structures in the event of a wildfire. These fuel breaks would consist of thinning existing trees of all sizes on approximately 1,400 acres. Some of these acres may overlap with other commercial and non-commercial treatments described above.

• Conduct prescribed burning on approximately 7,000 to 10,000 acres to reduce the continuity and amount of fuels, reduce the potential for large scale crown fires, and restore fire to its natural ecological role. Many of these acres will overlap with the vegetation treatments already described.

Responsible Official

John C. Twiss, Forest Supervisor, Black Hills National Forest, 25041 N. Highway 16, Custer, SD 57730.

Nature of Decision To Be Made

The decision to be made is whether or not to implement the proposed action or alternatives at this time.

Scoping Process

Comments and input regarding the proposal have been received via direct mailing from the public, other groups and agencies during the initial 30-day (plus) public comment period in May 2004. Comments submitted based on this NOI, will be most useful if received within 30 days from the date of this notice. Response to the draft EIS will be sought from the interested public beginning in November 2004.

Comment Requested

This notice of intent provides information that the agency will prepare an environmental impact statement in response to public comment and feedback during the May 2004 scoping period. Comments submitted by individuals and groups during the initial May 2004 scoping period have been incorporated and there is no need to resubmit comments in response to this NOI. Additional comments received will assist the planning team to identify key issues and opportunities used to develop project alternatives and mitigation measures. Comments on the DEIS will be requested ruing the 45 days comment period following the Notice of Availability to be published in the Federal Register in November 2004 (See discussion below).

Early Notice of Importance of Public Participation in Subsequent Environmental Review

A draft environmental impact statement will be prepared for comment. The comment period on the draft environmental impact statement will be for 45 days (beginning around November 1,2 2004) form the date the Environmental Protection Agency publishes the Notice of Availability in the Federal Register.

The Forest Service believes, at this early state, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21.

Dated: June 16, 2004.
Brad Exton,
Acting Forest Supervisor, Black Hills National Forest.

[FR Doc. 04-14040 Filed 6-21-04; 8:45 am]

BILLING CODE 3410-11-M